DEPARTMENT OF COMMERCE

International Trade Administration

[A-469-814]

Chlorinated Isocyanurates from Spain: Initiation of Antidumping Duty New Shipper Review

AGENCY: Import Administration, International Trade Administration, Department of Commerce.

SUMMARY: The Department of Commerce (the Department) has received a request for a new shipper review under the antidumping duty order on chlorinated isocyanurates from Spain issued on June 24, 2005. See Chlorinated Isocyanurates from Spain: Notice of Antidumping Duty Order, 70 FR 36562 (June 24, 2005). In accordance with section 751(a)(2)(B) of the Tariff Act of 1930, as amended (the Act), and 19 CFR 351.214(c), we are initiating an antidumping new shipper review of Inquide Flix, S.A., (Inquide). The period of review (POR) of this new shipper review is June 1, 2007 through November 30, 2007.

EFFECTIVE DATE: February 13, 2008.

FOR FURTHER INFORMATION CONTACT: Scott Lindsay, AD/CVD Operations, Office 6, Import Administration, International Trade Administration, Department of Commerce, 14th Street and Constitution Avenue, N.W., Washington, DC 20230; telephone: (202) 482-0780.

SUPPLEMENTARY INFORMATION:

Background

In accordance with section 751(a)(2)(B) of the Act and 19 CFR 351.214(c), the Department received a timely request from Inquide, a producer and exporter of chlorinated isocyanurates, for a new shipper review of the antidumping duty order on chlorinated isocyanurates from Spain. See December 28, 2007, submission from Inquide requesting a new shipper review.

Pursuant to section 751(a)(2)(B)(i) of the Act and 19 CFR 351.214(b), Inquide certified that it is both an exporter and producer of the subject merchandise, that it did not export subject merchandise to the United States during the period of the investigation (POI) (April 1, 2003 through March 31, 2004), and that since the investigation was initiated, it has not been affiliated with any producer or exporter who exported the subject merchandise to the United States during the POI. It also submitted documentation establishing the date on which it first shipped the subject merchandise to the United States, the volume of that shipment, and the date of its first sale to an unaffiliated customer in the United States. It also certified it had no shipments to the United States during the period subsequent to its first shipment.

The Department conducted a Customs database query in an attempt to confirm that Inquide's shipments of subject merchandise entered the United States for consumption and that liquidation of such entries had been suspended for antidumping duties. See January 31, 2008 New Shipper Review Initiation Checklist, question 18. The Department also examined whether U.S. Customs and Border Protection (CBP) confirmed that such entries were made during the new shipper review period.

Initiation of Review

In accordance with section 751(a)(2)(B) of the Act and section 351.214(d) of the Department's regulations, we find that the request Inquide submitted meets the threshold requirements for initiation of a new shipper review. See Memorandum to the File from Scott Lindsay, Trade Analyst, through Thomas Gilgunn, Program Manager, New Shipper Initiation Checklist, dated, January 31, 2008. Accordingly, we are initiating a new shipper review of the antidumping duty order on chlorinated isocyanurates from Spain produced and exported by Inquide. Although Inquide's request meets the threshold requirements for initiation, there are a few issues of concern that the Department has with Inquide's new shipper review request. Therefore, immediately following the initiation of this review, the Department intends to issue a questionnaire to Inquide to clarify these issues. This review covers the period June 1, 2007 through November 30, 2007. We intend to issue the preliminary results of this review no later than 180 days after the date on which this review is initiated, and the final results within 90 days after the date on which we issue the preliminary results. See section 751(a)(2)(B)(iv) of the Act.

On August 17, 2006, the Pension Protection Act of 2006 (H.R. 4) was signed into law. Section 1632 of H.R. 4 temporarily suspends the authority of the Department to instruct U.S. Customs and Border Protection to collect a bond or other security in lieu of a cash deposit in new shipper reviews. Therefore, the posting of a bond under section 751(a)(2)(B)(iii) of the Act in lieu of a cash deposit is not available in this case. Importers of chlorinated isocyanurates produced and exported by Inquide must continue to post cash deposits of estimated antidumping duties on each entry of subject merchandise (i.e., chlorinated isocyanurates) at the current all-others rate of 24.83 percent.

Interested parties may submit applications for disclosure under administrative protective order in accordance with 19 CFR 351.305 and 351.306.

This initiation and this notice are issued and published in accordance with section 751(a)(2)(B) of the Act and sections 351.214 and 351.221(c)(1)(i) of the Department's regulations.

Dated: January 31, 2008.
Stephen J. Claeys,
Deputy Assistant Secretary for Import Administration.

[FR Doc. E8-2645 Filed 2-12-08; 8:45 am]

BILLING CODE 3510-DS-S